DEPARTMENT OF THE INTERIOR

Bureau of Land Management

[LLIDI02000.L71220000.EO0000. LVTFD0977370]

DEPARTMENT OF AGRICULTURE

Forest Service

Notice of Intent To Prepare an Environmental Impact Statement for the Proposed Rasmussen Valley Mine and Reclamation Plan, Caribou County, ID

AGENCIES: Bureau of Land Management, Interior. U.S. Forest Service, Agriculture.

ACTION: Notice of Intent.

SUMMARY: In compliance with the National Environmental Policy Act of 1969, the Federal Land Policy and Management Act of 1976, and the Mineral Leasing Act of 1920, as amended, notice is hereby given that the Department of the Interior, Bureau of Land Management (BLM), Pocatello Field Office, and the U.S. Department of Agriculture, Forest Service (USFS), Caribou-Targhee National Forest, will jointly prepare an Environmental Impact Statement (EIS) to determine and analyze the effects of a proposed phosphate mine and reclamation plan. The EIS will also consider the effects of modifying the lease to increase its size.

DATES: To ensure that comments will be considered, the BLM must receive written comments on the scope of the analysis described in this notice by March 31, 2011. The BLM will announce future meetings or hearings and any other public involvement activities at least 15 days in advance through public notices, media news releases, and/or mailings.

Scoping Procedure: The scoping procedure to be used for this EIS will involve notification in the Federal Register; a mailing to interested and potentially affected individuals, groups, Federal, State, and local government entities requesting comments, issues and concerns; news releases or legal notices; and public scoping meetings.

Please note that public comments and information submitted, including names, street addresses, and e-mail addresses of respondents, will be available for public review and disclosure at the address listed below during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

The BLM and the USFS are seeking information and written comments from Federal, State, Tribal, and local agencies, individuals and organizations interested in, or affected by the Proposed Action or Alternatives. To assist the BLM and the USFS in identifying issues and concerns related to the Proposed Action, scoping comments should be as specific as possible.

ADDRESSES: Send written comments to: Rasmussen Valley Mine EIS, Bureau of Land Management, Pocatello Field Office, 4350 Cliffs Drive, Pocatello, Idaho 83204. E-mail: Rasmussen_Valley_EIS@blm.gov.

FOR FURTHER INFORMATION CONTACT: Bill Volk, Bureau of Land Management, Pocatello Field Office, 4350 Cliffs Drive, Pocatello, Idaho 83204, phone (208) 236-7503. Information is also available at: http://www.blm.gov/id/st/en/fo/pocatello/planning/rasmussen_valley_mine.html.

SUPPLEMENTARY INFORMATION: The BLM will serve as the lead agency and the USFS as the co-lead agency. The Idaho Department of Environmental Quality is a cooperating agency. The mining and reclamation plans have been developed and submitted for agency review of proposed open pit mining operations at the Rasmussen Valley Phosphate Federal Mineral Lease I-05975, in Caribou County, Idaho, by Nu-West Industries, Inc., doing business as Agrium Conda Phosphate Operations (Agrium). The Rasmussen Valley Phosphate Lease Area is located about 18 miles northeast of Soda Springs, Idaho.

The proposed new mining operations at the Rasmussen Valley Phosphate Lease area lie on lands where the surface estate is administered by the BLM, the USFS, the Idaho Department of Fish and Game, and private owners. The Federal mineral estate is administered by the BLM. The portion where the surface estate is administered by the USFS lies within the Soda Springs Ranger District of the Caribou-Targhee National Forest. The lease was originally issued in 1955. Subsequent lease transactions resulted in the transfer of the lease to Agrium in 2004. These leases grant the lessee, Agrium in this case, exclusive rights to mine and otherwise dispose of the federally owned phosphate deposit at the site. Through development of this EIS, the BLM and the USFS will analyze environmental impacts of the proposed mining operations and reasonable alternatives to the proposed action. Appropriate mitigation measures will also be formulated.

Agency Decisions: The BLM Idaho State Director or delegated official will make a decision regarding approval of the proposed mine and reclamation plan, a proposed lease modification or grant of a fringe acreage lease (enlargement of leased areas), and appropriate land use authorizations on leased lands. Decisions will be based on the EIS and any recommendations the USFS may have regarding surface management of leased National Forest System lands. The USFS Caribou-Targhee National Forest Supervisor makes:

(1) Recommendations to the BLM concerning surface management and mitigation on leased lands within the Caribou-Targhee National Forest; and

(2) Decisions on mine related activities that occur off-lease within the Caribou-Targhee National Forest. Special use authorizations from the USFS would be necessary for any support structures and facilities for the mine located off-lease within the Caribou-Targhee National Forest.

The Army Corps of Engineers may also make decisions related to permits under Section 404 of the Clean Water Act.

Background: Agrium has operated the existing North Rasmussen Ridge and Dry Valley Mines since 2003. Agrium has indicated that they will eventually complete mining of these currently permitted reserves, requiring the proposed mining of the Rasmussen Valley phosphate lease if mining is to continue in the immediate area. Because of the significant construction time associated with the infrastructure needed for the proposed mine (new haul road and mine infrastructure), this proposal is being analyzed in advance of depleting the currently permitted ore reserves at Agrium's North Rasmussen Ridge and Dry Valley Mines. The proposed Rasmussen Valley Mine project would include an open pit phosphate mine and associated features including growth media stockpiles, temporary and permanent external overburden storage areas, storm water retention ponds and mine pit backfill areas, a haul road, an equipment staging area, and re-routing of an existing county road and power line.

The lease currently contains 511.4 acres of which approximately 311.4 acres are on National Forest System Lands, 40 acres are on BLM public lands, and 160 acres are on lands managed by the Idaho Department of Fish and Game (IDFG). The lessee has proposed a lease modification (enlargement) of the Federal Phosphate Lease I-05975 in three areas totaling 170 acres to allow optimum recovery of existing ore currently contiguous to Lease I-05975. This proposed modification will be analyzed in the EIS. Approximately 420.4 acres are proposed for disturbance both on-lease and off-lease by the mining project, of which 198.5 acres would be on National Forest System Lands, 28.7 acres on BLM public lands, 134.9 acres on the IDFG Blackfoot Wildlife Management Area, 0.4 acres on Idaho Department of Lands, and 57.9 acres on private land.

Of the total proposed 420.4 acres of disturbance, approximately 310.3 acres are on-lease for the mine pit, backfill areas, temporary and permanent external overburden disposal areas, an equipment staging area and haul roads, and approximately 110.1 acres of disturbance are off-lease for haul roads, a county road re-route, growth media stockpiles and storm water retention ponds.

Of the 110.1 total acres of off-lease disturbance, 31.3 acres are proposed to be disturbed on private land, and 13.6 acres are proposed to be disturbed on National Forest System Lands within the 170-acre proposed lease modification. Off-lease disturbance on National Forest System Lands of approximately 30.8 acres for the haul road, storm water retention ponds, and growth media stockpiles is proposed to be permitted by a 71-acre Special Use Permit (SUP) rather than a lease modification. Off-lease disturbance of approximately 7.4 acres is proposed by Agrium on the Idaho Fish and Game's Blackfoot Wildlife Management Area, primarily for storm water retention ponds and the county road re-alignment. Approximately 26.6 acres of disturbance off-lease on private land, but not within the lease modification, is proposed for the haul road, storm water retention ponds, and growth media stockpiles. Approximately 0.4 acres of proposed off-lease disturbance for the haul road is on land managed by the Idaho Department of Lands. Mining is proposed to begin at the southern end of the Rasmussen Valley Mine deposit, continuing northwest through the deposit to the extent of the lease. Initially, overburden from the pit would be placed in an external overburden storage area located on-lease directly to the west of the pit. As mining progresses northwest, overburden would be placed either back in the mined-out portion of the pit, or in additional external overburden storage areas located on-lease to the west of the pit.

Agrium has proposed management practices in its mine and reclamation plan to reduce environmental impacts. Reclamation would be conducted concurrently with mining. Agrium's plan emphasizes the backfill of mine pits and limiting the amount of overburden placed in permanent external storage areas. To reduce the potential for contaminant release to water or uptake into reclamation vegetation, Agrium is proposing to limit the amount of time that seleniferous overburden is exposed to the elements, to return all seleniferous overburden material to the mine pits, and to cap overburden with low-seleniferous material consisting of approximately 3 feet of cherty material, overlain by 2 feet of growth media.

Agrium has proposed to build associated new facilities including an ore stockpile and groundwater supply well(s). To assist personnel needs and mobile equipment operation, a small support staging facility would be constructed at the active mining site immediately west of the pit. This facility provides electrical power, fuel and grease storage within secondary containment, communication, safety structures, and a temporary shift change building.

Off-lease facilities would include haul roads and storm water control features, and growth media stockpiles. Trucks would be used to transport ore to the Wooley Valley rail head and overburden to a permanent disposal area.

Potential impacts to surface resources and water quality include erosion, an increase in stream sediment load, and contamination from dissolved metals and selenium. Agrium has proposed to implement practices designed to reduce, eliminate, or mitigate these impacts. Suitable growth media would be salvaged from disturbed areas for use in reclamation. Mine reclamation would include removal of facilities and equipment, backfilling pits as mining progresses, grading slopes, capping overburden disposal areas and pit backfill, restoring drainages, spreading growth media, stabilizing surfaces, revegetation, and testing and treatment for any remaining contaminants. Environmental monitoring will be performed to ensure impacts do not exceed those authorized.

Issues initially identified for the proposed mining of the Rasmussen Valley phosphate lease include potential effects on groundwater and surface water quantity and quality; vegetation, soil and mineral resources; air quality; wildlife and their habitats (including fisheries); livestock grazing; wetlands and riparian habitat; recreation; and socio-economics such as employment and the continued operation of a fertilizer plant and support businesses; Native American rights, treaties, and land uses; visual resources; and cumulative effects.

The EIS will analyze the Proposed Action and the No Action Alternative. Other alternatives may be considered that could provide mitigation of potential impacts.

The tentative EIS project schedule is as follows:

• Begin public scoping period and meetings: Winter 2011.

• Estimated date for draft EIS and associated comment period: Spring 2013.

• Final EIS publication: Winter 2014.

• Record of Decision: Winter 2014.

At least three “open-house” style public scoping meetings will be held which will include displays explaining the project and providing a forum for commenting on the project.

Meetings are planned to be held in Pocatello, Fort Hall, and Soda Springs, Idaho. The dates, times, and locations of the public scoping meetings will be announced in mailings and public notices issued by the BLM (see DATES above).

Authorities: 42 U.S.C. 4321 et seq.; 40 CFR parts 1500-1508; 43 CFR part 46; 43 U.S.C. 1701; and 43 CFR part 3590.

Joe Kraayenbrink,
District Manager, Idaho Falls District, Bureau of Land Management.
Brent Larson,
Forest Supervisor, Caribou-Targhee National Forest.

[FR Doc. 2011-4535 Filed 2-28-11; 8:45 am]

BILLING CODE 4310-GG-P